DEPARTMENT OF AGRICULTURE

Commodity Credit Corporation

Request for Public Hearing on 2002—Crop Cane Sugar Marketing Allotments and Allocations

AGENCY: Commodity Credit Corporation, USDA.

ACTION: Notice of opportunity to request a public hearing.

The Commodity Credit Corporation (CCC) is issuing this notice to advise sugarcane processors and growers that they may request a public hearing regarding 2002-crop cane State sugar marketing allotments and the allocation of cane State sugar marketing allotments to sugarcane processors under the Sugar Program. Sections 359c and 359d of the Agricultural Adjustment Act of 1938, as amended by section 1403 of the Farm Security and Rural Investment Act of 2002 (Pub. L. 107-171), require that the Secretary shall make cane State sugar marketing allotments and the allocation of cane State sugar marketing allotments to sugarcane processors after a hearing, if requested by the affected sugarcane processors or growers. If such request is made by affected parties by August 20, 2002, CCC will conduct a hearing on August 29, 2002, at 10 a.m., in the Jefferson Auditorium of the U.S. Department of Agriculture South Building, 1400 Independence Ave, Washington, DC. CCC will publicly announce the hearing if one is requested. Sugarcane growers, processors, and refiners, sugar beet growers and processors, sugar users, and all other interested parties would be welcome to attend if such hearing is held. State cane sugar marketing allotments and their allocation to sugarcane processors and sugar beet processor allocations will be announced before October 1, 2002.

ADDRESSES: Please send hearing requests to Thomas Bickerton, Economic and Policy Analysis Staff, United States Department of Agriculture (USDA), Stop 0516, 1400 Independence Ave., SW, Washington, DC 20250-0504. Phone: (202) 720-6733. Fax: (202) 690-1480. E-mail: Thomas.Bickerton@usda.gov.

Signed in Washington, DC, on August 13, 2002.
James R. Little,
Executive Vice President, Commodity Credit Corporation.

[FR Doc. 02-20928 Filed 8-13-02; 4:48 pm]

BILLING CODE 3410-05-P